ENVIRONMENTAL PROTECTION AGENCY

[ER-FRL-6698-8]

Environmental Impacts Statements; Notice of Availability

Responsible Agency: Office of Federal Activities, General Information (202) 564-7167 or http://www.epa.gov/compliance/nepa/.

Weekly Receipt of Environmental Impact Statements

Filed May 5, 2008 Through May 9, 2008

Pursuant to 40 CFR 1506.9.

EIS No. 20080181, Draft EIS, FAA, OH, Port Columbus International Airport (CMH) Project, Replacement of Runway 10R/28L, Development of a New Passenger Terminal and other Associated Airport Projects, Funding, City of Columbus, OH, Comment Period Ends: 07/11/2008, Contact: Katherine Jones 734-229-2958.

EIS No. 20080182, Final EIS, AFS, NM Perk-Grindstone Fuel Reduction Project, To Protect Life, Property, and Natural Resources, Village of Ruidoso, Lincoln National Forest, Lincoln County, New Mexico, Wait Period Ends: 06/16/2008, Contact: Ron Hannan 575-434-7245.

EIS No. 20080183, Final EIS, FHW, 00, US-131 Improvement Study, from the Indiana Toll Road (I-80/90) to a Point One Mile North of Cowling Road, U.S. Army COE Section 404 Permit, St. Joseph County, MI and Elkhart County, IN, Wait Period Ends: 06/16/2008, Contact: David T. Williams 517-702-1820.

EIS No. 20080184, Draft EIS, FHW, IA, I-29 Improvements in Sioux City, Construction from Burlington Northern Santa Fe Rail Road (BNSF) Bridge over the Missouri River to Existing Hamilton Boulevard Interchange, Woodbury County, IA, Comment Period Ends: 06/30/2008, Contact: Philip Barnes 515-233-7300.

EIS No. 20080185, Draft Supplement, FSA, 00, Programmatic—Expansion of the Emergency Conservation Program, To Restore Farmland (Cropland, Hayland and Pastureland) to a Normal Productive State after a Natural Disaster, Comment Period Ends: 06/30/2008, Contact: Matthew Ponish 202-720-6853.

EIS No. 20080186, Draft EIS, FAA, NV, City of Mesquite, Proposed Replacement General Aviation Airport, Implementation, Clark County, NV, Comment Period Ends: 07/03/2008, Contact: Barry Franklin 650-876-2778.

EIS No. 20080187, Final EIS, AFS, MT, Marten Creek Project, Proposed Timber Harvest, Prescribed Fire Burning, Watershed Restoration, and Associated Activities, Cabinet Ranger District, Kootenai National Forest, Sanders County, MT, Wait Period Ends: 06/16/2008, Contact: John Head 406-827-3533.

EIS No. 20080188, Final EIS, IBW, CA, Programmatic—Tijuana River Flood Control Project, Proposing a Range of Alternatives for Maintenance Activities and Future Improvements, San Diego County, CA, Wait Period Ends: 06/16/2008, Contact: Daniel Borunda 915-832-4767.

EIS No. 20080189, Final EIS, NSA, NM, Continued Operations of Los Alamos National Laboratory, Proposal to Expand Overall Operational Levels, (DOE/EIS-0380), Site Wide, Los Alamos County, NM, Wait Period Ends: 06/16/2008, Contact: Elizabeth Withers 505-665-0308.

EIS No. 20080190, Draft Supplement, USA, 00, Programmatic—Army Growth and Force Structure Realignment, Evaluation of Alternatives for Supporting the Growth, Realignment, and Transformation of the Army to Support Operations in the Pacific Theater, Implementation, Nationwide and the Pacific Region of AK, HI, Comment Period Ends: 06/30/2008, Contact: Mike Ackerman 410-436-2522.

EIS No. 20080191, Final Supplement, AFS, MT, Fishtrap Project, Updated Information on Past Maintenance/Restorative Treatments within Old Growth Stands, Timber Harvest, Prescribed Burning, Road Construction and Other Restoration Activities, Lolo National Forest, Plains/Thompson Falls Ranger District, Sanders County, MT, Wait Period Ends: 06/30/2008, Contact: Randy Hojem 406-826-4308.

EIS No. 20080192, Draft EIS, AFS, MT, Sheppard Creek Post-Fire Project, Timber Salvage, Implementation, Flathead National Forest, Flathead and Lincoln Counties, MT, Comment Period Ends: 07/01/2008, Contact: Bryan Donner 406-758-3508.

Amended Notices

EIS No. 20080106, Draft EIS, AFS, CO, Long Draw Reservoir Project, Re-Issue a Special-Use-Authorization to Water Supply and Storage to Allow the Continued Use of Long Draw Reservoir and Dam, Arapaho and Roosevelt National Forests and Pawnee National Grassland, Grand and Larimer Counties, CO, Comment Period Ends: 06/11/2008, Contact: Ken Tu 970-295-6623. Revision of FR Notice Published 03/28/2008: Extending Comment Period from 05/12/2008 to 06/11/2008.

EIS No. 20080163, Draft EIS, AFS, AK, Withdrawn—Spencer Mineral Materials Project, Proposal to Develop and Extract Quarry Rock and Gravel from a Site near Spencer Glacier, Chugach National Forest, Kenal Borough, AK, Comment Period Ends: 06/16/2008, Contact: Alice Allen 605-673-4853. Revision to FR Notice Published 05/02/2008: Officially Withdrawn by the Preparing Agency.

EIS No. 20080171, Draft EIS, NOA, WA, Proposed Authorization of the Makah Indian Tribe's Request to Hunt Gray Whales in the Tribe's Usual and Accustomed Fishing Grounds off the Coast of Washington, Comment Period Ends: 07/08/2008, Contact: Donna Darm 206-526-6150. Revision to FR Notice Published 05/09/2008: Correction to Title and Comment Period from 07/07/2008 to 07/08/2008.

Dated: May 13, 2008.
Ken Mittelholtz,
Environmental Protection Specialist, Office of Federal Activities.

[FR Doc. E8-11009 Filed 5-15-08; 8:45 am]

BILLING CODE 6560-50-P